DEPARTMENT OF ENERGY

Federal Energy Regulatory Commission

Combined Notice of Filings

October 1, 2008.

Take notice that the Commission has received the following Natural Gas Pipeline Rate and Refund Report filings:

Docket Numbers: RP08-634-000.

Applicants: Young Gas Storage Company, Ltd.

Description: Operational Purchases and Sales Annual Report of Young Gas Storage Company, Ltd.

Filed Date: 09/30/2008.

Accession Number: 20080930-5013.

Comment Date: 5 p.m. Eastern Time on Tuesday, October 14, 2008.

Docket Numbers: RP08-635-000

Applicants: Carolina Gas Transmission Corporation

Description: Carolina Gas Transmission Corp submits a report containing proposed Fuel Retainage Percentages for the period beginning 11/1/08 and Fourth Revised Sheet 10 et al. to FERC Gas Tariff, Original Volume 1.

Filed Date: 09/30/2008.

Accession Number: 20081001-0056.

Comment Date: 5 p.m. Eastern Time on Tuesday, October 14, 2008.

Docket Numbers: RP08-636-000.

Applicants: Gas Transmission Northwest Corporation.

Description: Gas Transmission Northwest Corporation submits Fifteenth Revised Sheet 4 to its FERC Gas Tariff, Third Revised Volume 1-A, effective 11/1/08.

Filed Date: 09/30/2008.

Accession Number: 20081001-0057.

Comment Date: 5 p.m. Eastern Time on Tuesday, October 14, 2008.

Docket Numbers: RP08-637-000.

Applicants: Hardy Storage Company, LLC.

Description: Request for Extension of Time to File Retainage Adjustment mechanism of Hardy Storage Company, LLC.

Filed Date: 09/30/2008

Accession Number: 20080930-5087.

Comment Date: 5 p.m. Eastern Time on Monday, October 6, 2008.

Docket Numbers: RP08-639-000.

Applicants: Iroquois Gas Transmission System, L.P.

Description: Iroquois Gas Transmission System, LP submits Twenty-First Revised Sheet 4A to FERC Gas Tariff, First Revised Volume 1.

Filed Date: 09/30/2008.

Accession Number: 20081001-0108.

Comment Date: 5 p.m. Eastern Time on Tuesday, October 14, 2008.

Docket Numbers: RP08-640-000.

Applicants: National Fuel Gas Supply Corporation.

Description: National Fuel Gas Supply Corporation submits 120th Revised Sheet 9 to FERC Gas Tariff, Fourth Revised Volume 1.

Filed Date: 09/30/2008.

Accession Number: 20081001-0107.

Comment Date: 5 p.m. Eastern Time on Tuesday, October 14, 2008.

Docket Numbers: RP08-643-000.

Applicants: Transcontinental Gas Pipe Line Corp.

Description: Transcontinental Gas Pipe Line Corporation submits Twenty-Ninth Revised Sheet 29 to FERC Gas Tariff, Third Revised Volume 1, to be effective 11/1/08.

Filed Date: 09/30/2008.

Accession Number: 20081001-0104.

Comment Date: 5 p.m. Eastern Time on Tuesday, October 14, 2008.

Docket Numbers: RP08-644-000.

Applicants: Williston Basin Interstate Pipeline Co.

Description: Williston Basin Interstate Pipeline Company submits Ninth Revised Sheet 358I to FERC Gas Tariff, Second Revised Volume 1, to be effective 9/30/08.

Filed Date: 09/30/2008.

Accession Number: 20081001-0103.

Comment Date: 5 p.m. Eastern Time on Tuesday, October 14, 2008.

Docket Numbers: RP96-272-081.

Applicants: Northern Natural Gas Company.

Description: Northern Natural Gas Company submits 52 Revised Sheet 66A to FERC Gas Tariff, Fifth Revised Volume 1, to be effective 10/1/08.

Filed Date: 09/30/2008

Accession Number: 20081001-0101.

Comment Date: 5 p.m. Eastern Time on Tuesday, October 14, 2008.

Docket Numbers: RP96-312-184.

Applicants: Tennessee Gas Pipeline Company.

Description: Tennessee Gas Pipeline Co. submits a negotiated rate gas transportation agreement with Southern Connecticut Gas Co.

Filed Date: 09/30/2008.

Accession Number: 20081001-0110.

Comment Date: 5 p.m. Eastern Time on Tuesday, October 14, 2008.

Docket Numbers: RP96-320-096.

Applicants: Gulf South Pipeline Company, LP.

Description: Gulf South Pipeline Co, LP submits several capacity release agreements.

Filed Date: 09/30/2008.

Accession Number: 20081001-0109.

Comment Date: 5 p.m. Eastern Time on Tuesday, October 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-23538 Filed 10-3-08; 8:45 am]

BILLING CODE 6717-01-P